FEDERAL TRADE COMMISSION

Agency Information Collection Activities; Submission for OMB Review; Comment Request

AGENCY: Federal Trade Commission (FTC or Commission).

ACTION: Notice and request for comment.

SUMMARY: In compliance with the Paperwork Reduction Act (PRA) of 1995, the FTC is seeking public comments on its request to OMB to extend for three years the current PRA clearances for information collection requirements contained in three product labeling rules enforced by the Commission. Those clearances expire on March 31, 2015.

DATES: Comments must be received by April 20, 2015.

ADDRESSES: Interested parties may file a comment online or on paper, by following the instructions in the Request for Comment part of the SUPPLEMENTARY INFORMATION section below. Write “Apparel Rules: FTC File No. P074201” on your comment, and file your comment online at https://ftcpublic.commentworks.com/ftc/apparelrulespra2 by following the instructions on the web-based form. If you prefer to file your comment on paper, mail or deliver your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024.

FOR FURTHER INFORMATION CONTACT: Requests for copies of the collection of information and supporting documentation should be addressed to Robert M. Frisby, 202-326-2098, or Lemuel Dowdy, 202-326-2981, Attorneys, Division of Enforcement, Bureau of Consumer Protection, 600 Pennsylvania Ave. NW., Room CC-9528, Washington, DC 20580.

SUPPLEMENTARY INFORMATION: Title: Rules and regulations under the Wool Products Labeling Act of 1939 (“Wool Rules”), 16 CFR part 300.

OMB Control Number: 3084-0100.

Type of Review: Extension of a currently approved collection.

Abstract: The Wool Products Labeling Act of 1939 (“Wool Act”) ¹ prohibits the misbranding of wool products. The Wool Rules establish disclosure requirements that assist consumers in making informed purchasing decisions and recordkeeping requirements that assist the Commission in enforcing the Rules.

¹ 15 U.S.C. 68 et seq.

On January 9, 2015, the Commission sought comment on the information collection requirements in the Wool Rules. 80 FR 1411. No comments were received. As required by OMB regulations, 5 CFR part 1320, the FTC is providing this second opportunity for public comment.

Likely Respondents: Manufacturers, importers, processors and marketers of wool products.

Frequency of Response: Third party disclosure; recordkeeping requirement.

Estimated annual hours burden: 1,888,000 hours (160,000 recordkeeping hours + 1,720,000 disclosure hours).

Recordkeeping: 160,000 hours [4,000 wool firms incur an average 40 hours per firm].

Disclosure: 1,720,000 hours [240,000 hours for determining label content + 480,000 hours to draft and order labels + 1,000,000 hours to attach labels].

Estimated annual cost burden: $22,620,000 (solely relating to labor costs).

Title: Rules and regulations under the Textile Fiber Products Identification Act (“Textile Rules”), 16 CFR part 303.

OMB Control Number: 3084-0101.

Type of Review: Extension of a currently approved collection.

Abstract: The Textile Fiber Products Identification Act (“Textile Act”) ² prohibits the misbranding and false advertising of textile fiber products. The Textile Rules establish disclosure requirements that assist consumers in making informed purchasing decisions, and recordkeeping requirements that assist the Commission in enforcing the Rules. The Rules also contain a petition procedure for requesting the establishment of generic names for textile fibers.

² 15 U.S.C. 70 et seq.

On January 9, 2015, the Commission sought comment on the information collection requirements in the Textile Rules. 80 FR 1411. No comments were received. As required by OMB regulations, 5 CFR part 1320, the FTC is providing this second opportunity for public comment.

Likely Respondents: Manufacturers, importers, processors and marketers of textile fiber products.

Frequency of Response: Third party disclosure; recordkeeping requirement.

Estimated annual hours burden: 39,186,772 hours (1,237,015 recordkeeping hours + 37,949,757 disclosure hours).

Recordkeeping: 1,237,015 hours (approximately 19,031 textile firms incur average burden of 65 hours per firm)

Disclosure: 37,949,757 hours (1,471,730 hours to determine label content + 1,811,360 hours to draft and order labels + 34,666,667 hours to attach labels)

Estimated annual cost burden: $280,754,000, rounded to the nearest thousand (solely relating to labor costs).

Title: The Care Labeling of Textile Wearing Apparel and Certain Piece Goods As Amended (“Care Labeling Rule”), 16 CFR 423.

OMB Control Number: 3084-0103.

Type of Review: Extension of a currently approved collection.

Abstract: The Care Labeling Rule requires manufacturers and importers to attach a permanent care label to all covered textile clothing in order to assist consumers in making purchase decisions and in determining what method to use to clean their apparel. Also, manufacturers and importers of piece goods used to make textile clothing must provide the same care information on the end of each bolt or roll of fabric.

On January 9, 2015, the Commission sought comment on the information collection requirements in the Care Labeling Rule. 80 FR 1411. No comments were received. As required by OMB regulations, 5 CFR part 1320, the FTC is providing this second opportunity for public comment.

Estimated annual hours burden: 34,742,227 hours (solely relating to disclosure ³) (derived from 2,264,200 hours to determine care instructions + 1,811,360 hours to draft and order labels + 30,666,667 hours to attach labels).

³ The Care Labeling Rule imposes no specific recordkeeping requirements. Although the Rule requires manufacturers and importers to have reliable evidence to support the recommended care instructions, companies in some circumstances can rely on current technical literature or past experience.

Likely Respondents: Manufacturers or importers of textile apparel.

Frequency of Response: Third party disclosure.

Estimated Annual Cost Burden: $258,329,000, rounded to the nearest thousand (solely relating to labor costs).

Request for Comments

You can file a comment online or on paper. For the Commission to consider your comment, we must receive it on or before April 20, 2015. Write “Apparel Rules: FTC File No. P074201” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, such as anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you are required to follow the procedure explained in FTC Rule 4.9(c), 16 CFR 4.9(c). Your comment will be kept confidential only if the FTC General Counsel grants your request in accordance with the law and the public interest.

Postal mail addressed to the Commission is subject to delay due to heightened security screening. As a result, we encourage you to submit your comment online, or to send it to the Commission by courier or overnight service. To make sure that the Commission considers your online comment, you must file it at https://ftcpublic.commentworks.com/ftc/apparelrulespra2, by following the instructions on the web-based form. If this Notice appears at http://www.regulations.gov, you also may file a comment through that Web site.

If you file your comment on paper, write “Apparel Rules: FTC File No. P074201” on your comment and on the envelope, and mail or deliver it to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

The FTC Act and other laws that the Commission administers permit the collection of public comments to consider and use in this proceeding as appropriate. The Commission will consider all timely and responsive public comments that it receives on or before April 20, 2015. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

David C. Shonka,
Principal Deputy General Counsel.

[FR Doc. 2015-06352 Filed 3-18-15; 8:45 am]

BILLING CODE 6750-01-P